DEPARTMENT OF HOMELAND SECURITY

Office of Grants and Training; Citizen Corps Individual Registration

AGENCY: Department of Homeland Security, Preparedness Directorate, Office of Grants and Training, Office of Community Preparedness, DHS.

ACTION: Notice and request for comment.

SUMMARY: The Department of Homeland Security (DHS), as part of its continuing effort to reduce paperwork and respondents' burden, invites the general public to take this opportunity to comment on this proposed information collection as required by the Paperwork Reduction Act 1995, Public Law 104-13 (44 U.S.C. 3506(c)(2)(A)). Currently, the Office of Community Preparedness is seeking to renew an already approved information collection request, Citizen Corps Individual Registration.

DATES: Comments are encouraged and will be accepted until May 12, 2006. This process is conducted in accordance with 5 CFR 1320.10

ADDRESSES: National Citizen Corps Office, Attn: Susan Drgos, 810 7th Street, NW., Washington, DC 20531.

• Mail: National Citizen Corps Office, Attn: Susan Drgos, 810 7th Street, NW., Washington, DC 20531.

FOR FURTHER INFORMATION CONTACT: Susan Drgos, 202-786-9463 (this is not a toll free number).

SUPPLEMENTARY INFORMATION: To request a copy of this Information Collection Request, with applicable supporting documentation, may be obtained by calling or writing Citizen Corps Contact, Susan Drgos, 202-786-9463. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Preparedness Directorate, Office of Grants and Training, Office of Community Preparedness.

Title: Citizen Corps Individual Registration.

OMB Number: 1660-0078.

Frequency: On occasion.

Affected Public: Individual citizens.

Estimated Number of Respondents: 20,000 per year.

Estimated Time Per Respondent: 5 minutes.

Total Burden Hours: 1,666.66 per year.

Total Burden Cost: None.

Total Burden Cost: None.

Description: This information collection will enable Citizen Corps to operate effectively and efficiently to regularize and coordinate activities between Citizen Corps and those groups active in educating, training, and coordinating volunteers in crime prevention, disaster preparedness, mitigation, response, public health, and safety issues.

Dated: March 6, 2006.
Charles Church,
Chief Information Officer.

[FR Doc. E6-3494 Filed 3-10-06; 8:45 am]

BILLING CODE 4410-10-P